FEDERAL DEPOSIT INSURANCE CORPORATION

Agency Information Collection Activities: Submission for OMB Review; Comment Request (3064-0143)

AGENCY: Federal Deposit Insurance Corporation (FDIC).

ACTION: Notice and request for comment.

SUMMARY: The FDIC, as part of its continuing effort to reduce paperwork and respondent burden, invites the general public and other Federal agencies to take this opportunity to comment on the revision of an existing information collection, as required by the Paperwork Reduction Act of 1995 (44 U.S.C. chapter 35). On October 22, 2013, (78 FR 62631), the FDIC requested comment for 60 days on a proposal to revise the following information collection: “Forms Related to Processing Deposit Insurance Claims” information collection (OMB No. 3064-0143). No comments were received. The FDIC hereby gives notice of its plan to submit to OMB a request to approve the revision of this collection, and again invites comment on this renewal.

DATES: Comments must be submitted on or before February 12, 2014.

ADDRESSES: Interested parties are invited to submit written comments. All comments should refer to the name of the collection. Comments may be submitted by any of the following methods:

• http://www.FDIC.gov/regulations/laws/federal/propose.html.

• Email: comments@fdic.gov.

• Mail: Gary Kuiper (202.898.3877), Counsel, Federal Deposit Insurance Corporation, 550 17th Street NW., NYA-5046, Washington, DC 20429.

• Hand Delivery: Comments may be hand-delivered to the guard station at the rear of the 550 17th Street Building (located on F Street), on business days between 7:00 a.m. and 5:00 p.m.

A copy of the comments may also be submitted to the FDIC Desk Officer, Office of Information and Regulatory Affairs, Office of Management and Budget, New Executive Office Building, Room 10235, Washington, DC 20503.

FOR FURTHER INFORMATION CONTACT: For further information about the revisions covered by this notice, please contact Gary Kuiper, by telephone at 202.898.3877 or by mail at the address identified above. In addition, a link to copies of the revised and new forms is available directly beneath this notice on the FDIC's Web site (http://www.fdic.gov/regulations/laws/federal/notices.html).

SUPPLEMENTARY INFORMATION: The FDIC is proposing to revise three of the forms in the collection: Declaration for Combined Contribution Plan (7200/10), Declaration for Defined Benefit Plan (7200/12), and Declaration for Health and Welfare Plan (7200/14); make minor clarifying changes to 10 of the forms in the collection: Declaration for Government Deposit (7200/04), Declaration for Revocable Living Trust (7200/05), Declaration of Independent Activity (7200/06), Declaration of Independent Activity for Unincorporated Association (7200/07), Declaration of Joint Ownership Deposit (7200/08), Declaration of Testamentary Deposit (7200/09), Declaration of IRA Keogh Deposit (7200/11), Declaration of Custodian Deposit (7200/13), Declaration for Plan and Trust (7200/15), and Declaration for Irrevocable Trust (7200/18); and add two new forms to the collection: Claimant Verification Form (7200/24) and Depositor Interview Form (7200/26).

Title: Forms Related to Processing of Deposit Insurance Claims.

Forms Currently In Use:

Declaration for Public Unit Deposit, Form 7200/04

Declaration for Trust, Form 7200/05

Declaration of Independent Activity, Form 7200/06

Declaration of Independent Activity for Unincorporated Association, Form 7200/07

Declaration for Joint Ownership Deposit, Form 7200/08

Declaration for Testamentary Deposit (Multiple Grantors), Form 7200/09

Declaration for Defined Contribution Plan, Form 7200/10

Declaration for IRA/KEOGH Deposit, Form 7200/11

Declaration for Defined Benefit Plan, Form 7200/12

Declaration of Custodian Deposit, Form 7200/13

Declaration for Health and Welfare Plan, Form 7200/14

Declaration for Plan and Trust, Form 7200/15

Declaration for Irrevocable Trust, Form 7200/18.

Estimated Number of Respondents and Burden Hours
FDIC document | Hours per response | Number of respondents | Burden hours
Declaration for Public Unit Deposit, Form 7200/04 | 0.50 | 500 | 250
Declaration for Trust, Form 7200/05 | 0.50 | 900 | 450
Declaration of Independent Activity, Form 7200/06 | 0.50 | 25 | 12.5
Declaration of Independent Activity for Unincorporated Association, Form 7200/07 | 0.50 | 25 | 12.5
Declaration for Joint Ownership Deposit, Form 7200/08 | 0.50 | 25 | 12.5
Declaration for Testamentary Deposit, Form 7200/09 | 0.50 | 1500 | 750
Declaration for Defined Contribution Plan, Form 7200/10 | 1.0 | 50 | 50
Declaration for IRA/KEOGH Deposit, Form 7200/11 | 0.50 | 50 | 25
Declaration for Defined Benefit Plan, Form 7200/12 | 1.0 | 200 | 200
Declaration of Custodian Deposit, Form 7200/13 | 0.50 | 50 | 25
Declaration for Health and Welfare Plan, Form 7200/14 | 1.0 | 200 | 200
Declaration for Plan and Trust, Form 7200/15 | 0.50 | 1300 | 650
Declaration for Irrevocable Trust, Form 7200/18 | 0.50 | 200 | 100
Subtotal |  | 5095 | 2,875
Additional Burden for Deposit Brokers Only |  | 211 | 137
New Forms To Be Added
Claimant Verification Form, Form 7200/24 | 0.50 | 700 | 350
Depositor Interview Form, Form 7200/26 | 0.50 | 75 | 37.5
Subtotal |  | 1100 | 570
Total |  | 6406 | 3582

General Description of Collection: The collection involves forms used by the FDIC to obtain information from individual depositors and deposit brokers necessary to supplement the records of failed depository institutions to make determinations regarding deposit insurance coverage for depositors of failed institutions. The information provided allows the FDIC to identify the actual owners of an account and each owner's interest in the account.

Current Action: The FDIC is proposing modifications, which may be considered substantive and material, to the following forms: 7200/10, Declaration for Combined Contribution Plan; 7200/12, Declaration for Defined Benefit Plan; and 7200/14, Declaration for Health and Welfare Plan. The content of the forms was revised to reflect current deposit insurance rules and regulations; to focus on the collection of information required for an insurance determination; and to incorporate applicable Code of Federal Regulations (both FDIC and non-FDIC) citations. The FDIC also proposes modifications, which may be considered non-substantive and nonmaterial, to the following forms: 7200/04, Declaration for Government Deposit; 7200/05, Declaration for Revocable Living Trust; 7200/06, Declaration of Independent Activity; 7200/07, Declaration of Independent Activity for Unincorporated Association; 7200/08, Declaration of Joint Ownership Deposit; 7200/09, Declaration of Testamentary Deposit; 7200/11, Declaration of IRA Keogh Deposit; 7200/13, Declaration of Custodian Deposit; 7200/15, Declaration for Plan and Trust; and 7200/18, Declaration for Irrevocable Trust. Finally, the FDIC proposes to add two new forms: 7200/24, Claimant Verification Form, 7200/24, and Depositor Interview Form, 7200/06. The purpose of the new forms is to facilitate collection of specific information that the FDIC will need in calculating insurance coverage after a bank failure.

Request for Comment

Comments are invited on: (a) Whether these collections of information are necessary for the proper performance of the FDIC's functions, including whether the information has practical utility; (b) the accuracy of the estimate of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 8th day of January 2013.
Federal Deposit Insurance Corporation.
Robert E. Feldman,
Executive Secretary.

[FR Doc. 2014-00499 Filed 1-10-14; 8:45 am]

BILLING CODE 6714-01-P